DEPARTMENT OF ENERGY

Federal Energy Regulatory Commission

Notice of Surrender of Preliminary Permits

November 30, 2004.

Symbiotics, LLC (Project No. 11978-002); Symbiotics, LLC (Project No. 12037-001); Prosser Creek Hydro, LLC (Project No. 12191-001); McCloud Hydro, LLC (Project No. 12195-001); Gillham Hydro, LLC (Project No. 12226-002); Nimrod Hydro, LLC (Project No. 12237-001); San Jacinto Hydro, LLC (Project No. 12242-001); Spavinaw Hydro, LLC (Project No. 12243-001); Great Salt Plains, LLC (Project No. 12263-001); Wappapello Hydro, LLC (Project No. 12268-001); GV Montgomery Hydro, LLC (Project No. 12277-001); KR 6 Hydro, LLC ( Project No. 12278-001); Wilkins Hydro, LLC (Project No. 12281-001); Huntington Hydro, LLC (Project No. 12294-001); Rough River Hydro, LLC (Project No. 12364-002); Coralville Hydro, LLC (Project No. 12417-001)

Take notice that the permittees for the subject projects have requested to surrender their preliminary permits. Investigations and feasibility studies have shown that the projects would not be economically feasible.

Project No. | Project name | Stream | State | Expiration date
11978-002 | Vega Dam | Plateau Creek | CO | August 31, 2006.
12037-001 | Swift Dam | Birch Creek | MT | April 30, 2005.
12191-001 | Prosser Creek Dam | Prosser Creek | CA | May 31, 2006.
12195-001 | McCloud Dam | McCloud River | CA | October 31, 2006.
12226-002 | Gillham Dam | Cossatot River | AR | September 30, 2005.
12237-001 | Nimrod Dam | Fourche La Fave River | AR | October 31, 2005.
12242-001 | San Jacinto Dam | San Jacinto River | TX | March 31, 2006.
12243-001 | Spavinaw Dam | Spavinaw Creek | OK | January 31, 2006.
12263-001 | Great Salt Plains Dam | Arkansas River | AR | January 31, 2006.
12268-001 | Wappapello Dam | St. Francis River | MO | April 30, 2006.
12277-001 | G.V. Montgomery Dam | Tombigbee River | MS | January 31, 2006.
12278-001 | Kentucky River L&D #6 | Kentucky River | KY | October 31, 2005.
12281-001 | Wilkins L&D | Tombigbee River | MS | January 31, 2006.
12294-001 | J. Edwards Roush Lake Dam | Wabash River | IN | October 31, 2006.
12364-002 | Rough River Dam | Rough River | KY | August 31, 2006.
12417-001 | Coralville Dam | Iowa River | IA | July 31, 2006.

The permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. E4-3485 Filed 12-6-04; 8:45 am]

BILLING CODE 6717-01-P